DEPARTMENT OF HOMELAND SECURITY

Coast Guard

33 CFR Part 165

[Docket No. USCG-2019-0145]

Safety Zones; Annual Events Requiring Safety Zones in the Captain of the Port Lake Michigan Zone-Tulip Time Festival Fireworks

AGENCY: Coast Guard, DHS.

ACTION: Notice of enforcement of regulation.

SUMMARY: The Coast Guard will enforce a safety zone on Lake Macatawa in Holland, MI for the Tulip Time Festival Fireworks on May 11, 2019 to provide for the safety of life on navigable waterways during this fireworks display. This action is necessary and intended to protect the safety of life and property on navigable waters prior to, during, and immediately after a fireworks display. During the enforcement period listed below vessels and persons are prohibited from transiting through, mooring, or anchoring within the safety zone unless authorized by the Captain of the Port Lake Michigan or a designated representative. The operator of any vessel in the regulated area must comply with directions from the Patrol Commander or any Official Patrol displaying a Coast Guard ensign.

DATES: The regulations in 33 CFR 165.929(c)(1) will be enforced from 9:30 p.m. through 10:30 p.m. on May 11, 2019.

FOR FURTHER INFORMATION CONTACT: If you have questions about this notice of enforcement, call or email marine event coordinator MSTC Kaleena Carpino, Prevention Department, Coast Guard Sector Lake Michigan, Milwaukee, WI; telephone (414) 747-7148, email D09-SMB-SECLakeMichigan-WWM@uscg.mil.

SUPPLEMENTARY INFORMATION: The Coast Guard will enforce Safety Zone; Tulip Time Festival Fireworks listed as (c)(1) in Table 165.929 of 33 CFR 165.929 on May 11, 2019 from 9:30 p.m. through 10:30 p.m. This safety zone will encompass all of Lake Macatawa within the arc of a circle with a 1,000-foot radius from a center point launch position at 42°47.496′ N, 086°07.348′ W (NAD 83). This action is being taken to provide for the safety of life and property on navigable waterways prior to, during, and immediately after this fireworks display.

Pursuant to 33 CFR 165.930, entry into, transiting, or anchoring within the safety zone during an enforcement period is prohibited unless authorized by the Captain of the Port Lake Michigan, or his designated on-scene representative. Those seeking permission to enter the safety zone may request permission from the Captain of Port Lake Michigan via channel 16, VHF-FM. If you are the operator of a vessel in the regulated area during the enforcement period you must comply with directions from the Patrol Commander or any Official Patrol displaying a Coast Guard ensign.

This notice of enforcement is issued under the authority of 33 CFR 165.929 and 5 U.S.C. 552(a). In addition to this notice of enforcement in the Federal Register, the Coast Guard will provide notification of this enforcement period via the Local Notice to Mariners and Broadcast Notice to Mariners. The Captain of the Port Lake Michigan or his or her designated on-scene representative may be contacted via VHF Channel 16 or at (414) 747-7182.

Dated: March 15, 2019.
Thomas J. Stuhlreyer,
Captain, U.S. Coast Guard, Captain of the Port Lake Michigan.

[FR Doc. 2019-05357 Filed 3-20-19; 8:45 am]

BILLING CODE 9110-04-P